DEPARTMENT OF THE INTERIOR

Fish and Wildlife Service

[FWS-R1-R-2011-N093; 1265-0000-10137-S3]

Keālia Pond National Wildlife Refuge (NWR) and Kakahai'a NWR, Maui County, HI; Draft Comprehensive Conservation Plan and Environmental Assessment

AGENCY: Fish and Wildlife Service, Interior.

ACTION: Notice of availability; request for comments.

SUMMARY: We, the U.S. Fish and Wildlife Service (Service), announce the availability of our draft comprehensive conservation plans and environmental assessments (Draft CCPs/EAs) for the Keālia Pond and Kakahai'a National Wildlife Refuges (Refuges), for public review and comment. The Draft CCPs/EAs describe our proposals for managing the Refuges for the next 15 years.

DATES: To ensure consideration, we must receive your written comments by September 19, 2011. We will also announce opportunities for public input in local news media throughout the CCP process.

ADDRESSES: Additional information about the Refuges is available on our Web sites http://www.fws.gov/kealiapond/ and http://www.fws.gov/kakahaia/. You may submit comments or request CD-ROM copies of the Draft CCPs/EAs by any of the following methods. A limited number of printed copies of the Draft CCPs/EAs are also available.

E-mail: FW1PlanningComments@fws.gov. Include “Keālia Pond/Kakahai'a NWRs” in the subject line of the message.

Fax: Attn: Glynnis Nakai, Project Leader, (808) 875-2945.

U.S. Mail: Glynnis Nakai, Project Leader, Maui National Wildlife Refuge Complex, P.O. Box 1042, Kīhei, Hawai'i 96753.

FOR FURTHER INFORMATION CONTACT: Glynnis Nakai, Project Leader, (808) 875-1582 (phone).

SUPPLEMENTARY INFORMATION:

Introduction

With this notice, we continue the CCP process for the Refuges. We started this process through a notice in the Federal Register (74 FR 53755; October 20, 2009).

The Keālia Pond and Kakahai'a Refuges are part of the Maui National Wildlife Refuge Complex. Keālia Pond Refuge is located along the southern shore of the island of Maui. It was established in 1992 for the purpose of providing habitat for endangered Hawaiian waterbirds, specifically, the endangered Hawaiian stilt (ae'o), and endangered Hawaiian coot ('alae ke'oke'o). Keālia Pond is one of the largest natural wetlands remaining in the Hawaiian Islands. The 704-acre Keālia Pond Refuge is administered under a perpetual conservation easement provided by Alexander and Baldwin, Inc. The Refuge encompasses open water, fresh to brackish water marsh, mudflat, grassland, upland shrub, and coastal beach strand habitats. The Refuge also contains one of the largest concentrations of wetland birds in Hawai'i, and is an important breeding, feeding, and resting area for the ae'o and 'alae ke'oke'o. In addition, Keālia Pond Refuge provides a strategic landfall for migratory birds coming from Alaska, Siberia, and Asia, including Northern pintail (koloa māpu), Northern shoveler (koloa mohā), lesser scaup, Pacific golden-plover (kōlea), and ruddy turnstone (`akekeke). A total of 110 bird species have been documented on Keālia Pond Refuge. A majority of the Refuge is closed to general public access; however, trails, overlooks, and educational programs provide the public with opportunities to view some of Hawai'i's endangered and migratory wildlife.

The Kakahai'a Refuge is located on the southeastern coast of the island of Moloka'i. It was established to protect and provide habitat for endangered species. Habitats found on this Refuge include open water, freshwater marsh, mudflat, grassland, and shrubland. An inland Hawaiian fishpond is also located on the Refuge. Some of the more common migrants are koloa māpu and kōlea. Kakahai'a Refuge is closed to the general public; however, volunteers occasionally conduct wetland education programs.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities that are compatible with a refuge's purposes, including opportunities for hunting, fishing, wildlife observation and photography, and environmental education and interpretation. We will review and update the CCP at least every 15 years in accordance with the Refuge Administration Act.

Public Outreach and CCP Issues

We started the public scoping phase of the CCP planning process in 2009 by publishing a Notice of Intent (NOI) in the Federal Register (74 FR 53755; October 20, 2009), announcing our intention to complete a CCP/EA for the Keālia Pond and Kakahai'a Refuges, and requesting public comments. Concurrently, we released Planning Update 1, to provide information to the public and various stakeholders regarding our planning process, the Refuges' purposes, and our preliminary issues, goals, and objectives. We also invited the public to two open house meetings and requested public comments in the NOI and Planning Update 1. In November 2009, we held two public open house meetings in Kīhei and Kaunakakai, HI.

In Planning Update 2, released in February 2010, we summarized the comments we received, listed the preliminary management issues we used to draft alternatives, and presented our refined goals and objectives. In March 2011, we released Planning Update 3. We described our preliminary alternatives and identified our preferred alternatives in the update, and requested comments. We identified the following key issues during our planning and public involvement process, and addressed them in the Draft CCPs/EAs.

• Reduce threats to native habitats, endangered species, migratory birds, and other native wildlife at Keālia Pond Refuge, from invasive California bulrush and pickleweed plants; and nonnative rats, Indian mongooses, and cats. Identify more efficient techniques to control the most aggressive invasive species.

• Reduce midge swarms, wind-blown dust, and foul-smelling tilapia die-offs that originate on Keālia Pond Refuge, and encroach on neighboring property.

• Expand opportunities for wildlife-dependent public uses on Keālia Pond Refuge, and manage public uses to prevent wildlife and habitat disturbances.

• Develop restoration plans and step-down habitat management plans, and identify alternative water sources for endangered waterbird habitat on both Refuges.

• Increase funding for and maintenance of equipment and facilities that are exposed to and degraded by the Refuges' coastal marine environmental conditions.

• Increase law enforcement to protect both Refuges' resources.

• Conduct baseline surveys of invertebrates and their associated vegetation, to facilitate adaptive management at both Refuges.

• Increase staff presence on the Kakahai'a Refuge, to improve habitat management, volunteer efforts, and visitor services.

Draft CCP Alternatives We Are Considering

During the public scoping process with which we started work on these Draft CCPs/EAs, we, other governmental partners, and the public raised several issues. To address these issues we developed and evaluated three alternatives for managing each Refuge. In each Draft CCP/EA, we present our evaluation of the environmental effects of each alternative, and identify Alternative C as our preferred alternative. Alternative C was selected in both documents, because it best achieves the Refuges' purposes, visions, and goals; contributes to the National Wildlife Refuge System mission; addresses issues and relevant mandates; and is consistent with principles of sound fish and wildlife management. Summaries of our alternatives follow.

Keālia Pond Refuge Draft CCP/EA Alternatives

Alternative A: No Change

Under Alternative A, we would continue current management. Management of threatened and endangered species would focus on waterbird protection and successful nesting, in support of Hawaiian Waterbird Recovery Plan implementation. Public use programs would remain virtually unchanged. We would rely on natural, annual flooding, to manage habitat, and supplemental flooding, to provide habitat for waterbirds. The open-water, 200-acre Keālia Pond is subject to the natural hydrological cycle, represented by high water in winter, receding water April to September, and complete drying October to November. The seasonal mudflats at Mā'alaea would not be actively managed.

The Refuge's proposed Molokini Islet Unit (a proposed overlay refuge) would continue to be managed as a seabird colony. We would visit the unit one or two times per year, to monitor the seabird population, and continue a collaborative, long-term bird-banding project with the Hawai'i Department of Land and Natural Resources (HDLNR).

There are three nuisance issues at Keālia Pond that impact downwind neighbors, they include: Nonnative insects (midges), dust, and fish die-off odor. In extended high-water years, an invasive midge species reproduces multiple times, and the resulting swarms encroach on adjacent property. The Refuge would continue to control midges by treating the main pond with an insect growth inhibitor during peak abundance.

An overabundance of tilapia, a nonnative fish, occurs during extended flood conditions in the main pond. When the water recedes, the tilapia die-off emanates a foul odor, and the decaying fish must be raked out of the mud to remove the biomass. The Refuge would continue to trap and remove tilapia from the pond under Alternative A.

When water in the main pond recedes due to evaporation, trade winds disperse dust from the pond to the south-southeast side of the Refuge, and onto neighboring properties. Under Alternative A, we would continue to control windblown sediment by pumping and sheetflowing water into the main pond, targeting the pond's upper north edge.

Alternative B: Restoration Focus

Under Alternative B, we would identify and implement more efficient techniques for controlling the most aggressive invasive species, prepare a restoration plan and step-down habitat management plan with an inventory and monitoring protocol, and identify alternative water sources for endangered waterbirds. Developing a water source for Mā'alaea Flats would be a priority, enabling managing water levels for foraging, resting, and breeding ae'o, and providing enhanced wildlife viewing opportunities from the Keālia Coastal Boardwalk. We would conduct additional studies to evaluate the impacts visitors have on endangered waterbirds. Monitoring on the proposed Molokini Islet Unit would increase to two or three visits per year, for monitoring breeding and banding chicks. Methods to control nuisances (midges, dust, and tilapia) would be similar to Alternative A, until the Refuge is able to manipulate water levels in the open-water pond.

Alternative C: Wetland Capacity Focus (Preferred Alternative)

Under Alternative C, we would increase our ability to control water in the main pond and adjacent vegetated mudflats, remove the most aggressive invasive plants, and control pickleweed on the flats. Refuge enhancements would include constructing a water control structure, developing new wells to deliver water to target areas, and recontouring the topography, to maintain water on the flats. Increasing our capability to dewater and flood the main pond, would enhance our midge and tilapia control efforts.

Public uses would be similar to Alternatives A and B; however, new vegetated barriers and/or blinds would be provided for better wildlife viewing opportunities. Additional visitor services staff would recruit and train volunteers to assist with Refuge programs, and increase environmental educational opportunities.

Monitoring on the proposed Molokini Islet Unit would include three to six visits annually, during seabird nesting season (March to November). Very little information is known about 'ou (Bulwer's petrels) nesting on Molokini Islet; therefore, we would begin a monitoring program to determine the population's parameters. In addition, we would initiate a native plant restoration plan, particularly for 'ihi (Portulaca molokiniensis), a Federal and State species of concern. Volunteers would assist with propagating plants in the Refuge's greenhouse, and outplanting would be conducted by Federal and State biologists under a cooperative agreement with HDLNR.

Kakahai'a Refuge Draft CCP/EA Alternatives

Alternative A: Continue Current Management (No Change)

Under Alternative A, no changes in current management would occur. Wetland management would continue to be limited, due to staff and funding limitations. An overgrowth of pest plants, including trees and shrubs on levees, would continue to hinder efforts to manage the habitat on a small scale. Sedimentation would continue to degrade wetland habitat, resulting in even fewer waterbirds using the habitat; therefore we would not restart predator control activities. Management at Kakahai'a Refuge would be limited to treating pest plant species along the fence line with herbicide, maintaining access to gages and piezometers, monitoring water levels, and replacing the perimeter fence, as funding permits. The Refuge would remain closed to visitors.

Alternative B: Restoration and Biodiversity Focus

Under Alternative B, we would restore 10.5 acres of wetland habitat at Kakahai'a Refuge. We would create a water source for 5.5 acres of the Refuge's New Pond, by constructing a well, installing a water pump and distribution line, and repairing the electric panel. This alternative would create foraging and resting habitat for ae'o and 'alae ke'oke'o, and potential nesting habitat for ae'o. Removing 5 acres of invasive vegetation would recreate open water habitat in Old Pond. If feasible, the Old Pond's topography would be recontoured in areas where California bulrush has been removed, to create foraging and nesting habitat for 'alae ke'oke'o. Water level management in both ponds would also enhance invertebrate abundance. We would resume waterbird monitoring and predator control. The perimeter fence would be repaired or replaced to minimize the occurrence of invasive mammals such as axis deer, pigs, and dogs.

Under Alternative B, we would compile available data on the ecology of the wetlands, and evaluate wetland geomorphology and hydrology, to restore wetland habitat for the ae'o and 'alae ke'oke'o. The Refuge would remain closed to the public, except for issuing Special Use Permits for environmental education and interpretation activities. We would develop an earthen platform outside the fence along the entrance road to the Refuge, for wildlife viewing opportunities. Refuge staff visits would coincide with volunteer work group activities.

Alternative C: Wetland Capacity Focus (Preferred Alternative)

Under Alternative C, we would restore the 15-acre Old Pond, and 5.5 acres of the New Pond. Old Pond restoration activities would include removing California bulrush and other aggressive nonnative species, dredging accumulated sediment, recontouring the pond's bathymetry, removing and reconfiguring radial levees, reconstructing perimeter levees, replacing the water control structure, and replacing the pump between the two ponds. Restoring Old Pond would provide open water and emergent habitat for breeding, foraging, and nesting 'alae ke'oke'o. Natural groundwater springs would also supply water to Old Pond, which would reduce the need for supplemental water. A well, pump, water distribution line, and water control outlet would be constructed for New Pond, and levees would be rebuilt, which would enable us to flood and dewater the ponds to provide semi-permanent and seasonal habitat for ae'o, 'alae ke'oke'o, and migratory waterbirds. All monitoring activities would resume as part of the wetland restoration. A predator-proof fence would be installed, to protect wetland habitat and species.

We would work with the Hawai'i Department of Transportation, to modify the culvert passing under Kamehameha V Highway, to allow water from the upper watershed and periodic dewatering of the wetlands to flow to the ocean naturally, without blockage from sand.

Maintaining the wetlands at Kakahai'a Refuge would require regular onsite Refuge staff presence. The opportunities for visitors to engage in compatible wildlife-dependent recreation would expand, depending on staffing. At a minimum, a kiosk would be constructed on an earthen mound along the Refuge entrance road. Volunteer groups would assist Refuge staff with restoration and maintenance activities.

Public Availability of Documents

We encourage you to stay involved in the CCP planning process by reviewing and commenting on the proposals we have developed in the Draft CCPs/EAs. Copies of the documents are available by request from the Maui National Wildlife Refuge Complex, Milepost 6, Mokulele Highway, Kīhei, HI. The Draft CCPs/EAs are also available for downloading on our Web site http://www.fws.gov/pacific/planning.

Public Meetings

We will hold the following public meetings. In Moloka'i, the meeting is September 7, 2011, 6:30 to 8 p.m. at the Mitchell Pauole Center, 90 Ainoa Street, Kaunakakai, Hawai'i. In Maui, the meeting is September 8, 2011, from 6:30 to 8 p.m. at the Kīhei Community Center, 303 E. Lipoa Street, Kīhei, Hawai'i. For more information on the meetings, contact the person under FOR FURTHER INFORMATION CONTACT.

Next Steps

After the comment period ends, we will analyze the comments we receive and address them in the Final CCPs and decision documents.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: June 21, 2011.
Robyn Thorson,
Regional Director, Region 1, Portland, Oregon.

[FR Doc. 2011-21326 Filed 8-18-11; 8:45 am]

BILLING CODE 4310-55-P